DEPARTMENT OF DEFENSE

Defense Acquisition Regulations System

48 CFR Part 252

RIN 0750-AI67

Defense Federal Acquisition Regulation Supplement: Removal of Cuba From the List of State Sponsors of Terrorism (DFARS 2015-D032)

Correction

In rule document 2015-27467 appearing on pages 67252-67253 in the issue of October 30, 2015, make the following correction:

On page 67253, in the first column, the last line, “BILLING CODE 6820-ep-P” should read “BILLING CODE 5001-06-P”.

[FR Doc. C1-2015-27467 Filed 11-18-15; 8:45 am]

BILLING CODE 1505-01-D